ENVIRONMENTAL PROTECTION AGENCY

40 CFR Part 52

[DE053-1029b; FRL-6996-6]

Approval and Promulgation of Air Quality Implementation Plans; Delaware; Conversion of the Conditional Approval of the NOX RACT Regulation to a Full Approval and Approval of NOX RACT Determinations for Three Sources

AGENCY: Environmental Protection Agency (EPA).

ACTION: Proposed rule.

SUMMARY: EPA is proposing to approve revisions to the Delaware State Implementation Plan (SIP) submitted by the Delaware Department of Natural Resources and Environmental Control (DNREC). These revisions were submitted to satisfy the condition imposed by EPA in its conditional limited approval of Delaware's regulation requiring reasonably available control technology (RACT) for major sources of nitrogen oxides (NOX). EPA is proposing to convert its conditional limited approval of Delaware Regulation 12, Control of NOX Emissions, to a full approval. EPA is also proposing to approve three source-specific NOX RACT determinations. In the “Rules and Regulations” section of this Federal Register, EPA is approving the State's SIP submittal as a direct final rule without prior proposal because the Agency views this as a noncontroversial submittal and anticipates no adverse comments. A detailed rationale for the approval is set forth in the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting on this action should do so at this time.

DATES: Comments must be received in writing by July 16, 2001.

ADDRESSES: Written comments should be addressed to David L. Arnold, Chief, Air Quality Planning and Information Services Branch, Mailcode 3AP21, U.S. Environmental Protection Agency, Region III, 1650 Arch Street, Philadelphia, Pennsylvania 19103. Copies of the documents relevant to this action are available for public inspection during normal business hours at the Air Protection Division, U.S. Environmental Protection Agency, Region III, 1650 Arch Street, Philadelphia, Pennsylvania 19103; and the Delaware Department of Natural Resources & Environmental Control, 89 Kings Highway, Dover, Delaware 19901.

FOR FURTHER INFORMATION CONTACT: Rose Quinto, (215) 814-2182, and Melik Spain, (215) 814-2299, at the EPA Region III address above, or by e-mail at quinto.rose@epa.gov and spain.melik@epa.gov.

SUPPLEMENTARY INFORMATION: For further information, please see the information provided in the direct final action with the same title that is located in the “Rules and Regulations” section of this Federal Register publication.

Dated: May 31, 2001.
Elaine B. Wright,
Acting Regional Administrator, Region III.

[FR Doc. 01-14899 Filed 6-13-01; 8:45 am]

BILLING CODE 6560-50-P